DEPARTMENT OF HEALTH AND HUMAN SERVICES

Administration for Community Living

Agency Information Collection Activities: Proposed Collection; Public Comment Request; of the ACL Generic Clearance for the Collection of Qualitative Research and Assessment: OMB 0985-NEW

AGENCY: Administration for Community Living, Department of Health and Human Services.

ACTION: Notice.

SUMMARY: The Administration for Community Living (ACL) is announcing an opportunity for the public to comment on the proposed collection of information listed above. Under the Paperwork Reduction Act of 1995 (PRA), Federal agencies are required to publish a notice in the Federal Register concerning each proposed collection of information, including each proposed extension of an existing collection of information, and to allow 60 days for public comment in response to the notice. This IC solicits comments on the information collection requirements relating to the ACL Generic Clearance for the Collection of Qualitative Research and Assessment, a generic mechanism to conduct qualitative research in support of program improvement, knowledge generation, and technical assistance for ACL programs and populations served by the agency.

DATES: Comments on the collection of information must be submitted electronically by 11:59 p.m. (EST) or postmarked by April 17, 2023.

ADDRESSES: Submit electronic comments on the collection of information to: ACL's Office of Performance and Evaluation at evaluation@acl.hhs.gov. Submit written comments on the collection of information to Administration for Community Living, 330 C Street SW, Washington, DC 20201, Attention: Office of Performance and Evaluation.

FOR FURTHER INFORMATION CONTACT: Amanda Cash, Administration for Community Living, 202-795-7369 or Amanda.Cash@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology.

Some individual information collection requests may contain demographic data, and ACL will ensure adherence to best practices for collection of all demographic information in accordance with OMB guidance.

The Administration for Community Living (ACL) at the Department of Health and Human Services (HHS) is requesting a generic clearance for purposes of conducting qualitative research to gain a better understanding of emerging issues related to ACL's grantees, service providers, and programs; develop future intramural and extramural research projects; and to ensure HHS and ACL leadership, programs, and staff can obtain timely and relevant data and information. ACL defines qualitative feedback as information that provides useful insights on perceptions and opinions but are not statistical surveys that yield results that can be generalized beyond the population of study. ACL is requesting approval for at least four types of qualitative research: (a) interviews, (b) focus groups, (c) questionnaires, and (d) other qualitative methods.

ACL's mission is to maximize the independence, well-being, and health of older adults, people with disabilities across the lifespan, and their families and caregivers. ACL implements critical disability and aging programs, serves as the advisor to the HHS Secretary on disability and aging policy, works with other HHS agencies, Departments and the White House on disability and aging policies, and engages a range of disability and aging constituents to inform program development and implementation. Integral to this role, ACL will use this mechanism to conduct research, evaluation, and assessment to understand the needs, barriers, or facilitators for ACL programs. Future proposed data collection tools may be found on the ACL website for review at: https://www.acl.gov/about-acl/public-input.

Estimated Program Burden: ACL estimates the burden of this collection of information as follows:

A variety of instruments and platforms will be used to collect information from respondents. The annual burden hours (5,043) requested and the anticipated number of respondents (10,086) are based on the number of qualitative information collection requests (ICRs) that were approved by OMB currently at ACL. Out of the total ICRs at ACL, we estimated that that 30% of them have a qualitative research component. We used this information to develop the annual burden estimate below. Therefore, we estimate that over the requested period for this clearance (3 years) and approximately 30,258 respondents and 15,129 burden hours will be needed.

Estimated Annualized Burden Table
Type of respondent | Form | Number of respondents | Number of responses per respondent | Average burden hours per response | Total burden hours
ACL Program Recipient, Partner, or Key Informant | Qualitative Research | 10,086 | 1 | .5 | 5,043

Dated: February 11, 2023.
Alison Barkoff,
Acting Administrator and Assistant Secretary for Aging.

[FR Doc. 2023-03265 Filed 2-15-23; 8:45 am]

BILLING CODE 4154-01-P